DEPARTMENT OF TRANSPORTATION

Federal Railroad Administration

Petitions for Waivers of Compliance

In accordance with Title 49 Code of Federal Regulations (CFR) section 211.41, and 49 U.S.C. 20103, notice is hereby given that the Federal Railroad Administration (FRA) has received a request for waiver of compliance with certain requirements of the Federal railroad safety regulations. The individual petition is described below, including the party seeking relief, the regulatory provisions involved, and the nature of the relief being sought.

Sacramento Regional Transit District FRA Waiver Petition No. FRA-2003-14565

Sacramento Regional Transit District (SRTD) located in Sacramento, California, seeks a permanent waiver of compliance from Title 49 of the CFR for operation of a light rail line at a “limited connection” with the Union Pacific Railroad Company (UP). See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

In this regard, SRTD's “F” line is in a common corridor with the UP and there are nine (9) shared highway-rail grade crossings. Due to an extension of the “F” line, an additional nine (9) shared highway-rail grade crossings are anticipated. In addition, SRTD plans to construct a new 6.3 mile long light rail system also in a common corridor with the UP. SRTD anticipates there will be twelve (12) shared highway-rail grade crossings with UP on this new line. There has not been, nor is it anticipated that there will be, any shared use of track with the general system of railroad transportation on the aforementioned.

Based on the foregoing, SRTD seeks a permanent waiver of compliance from certain CFR parts of Title 49, specifically: part 229, Railroad Locomotive Safety Standards; and part 234, Grade Crossing Signal System Safety.

Since FRA has not yet completed its investigation of SRTD's petition, the agency takes no position at this time on the merits of SRTD's stated justifications. As part of FRA's review of the petition, the Federal Transit Administration will appoint a representative to advise FRA's Safety Board, and that person will participate in the board's consideration of SRTD's waiver petition.

Interested parties are invited to participate in this proceeding by submitting written views, data, or comments. FRA does not anticipate scheduling a public hearing in connection with the request for a waiver of certain regulatory provisions. If any interested party desires an opportunity for oral comment, he or she should notify FRA, in writing, before the end of the comment period and specify the basis for his or her request. All communications concerning these proceedings should identify the appropriate docket number (Docket Number FRA 2003-14565) and must be submitted to the DOT Docket Management Facility, Room PL-401 (Plaza level), 400 Seventh Street, SW., Washington, DC 20590. All documents in the public docket, including SRTD's detailed waiver request, are also available for inspection and copying on the Internet at the docket facility's Web site at http://dms.dot.gov. Communications received within 30 days of the date of this notice will be considered by FRA before final action is taken. Comments received after that date will be considered as far as practicable. All written communications concerning this proceeding are available for examination during regular business hours (9 a.m.-5 p.m.) at the above facility.

Issued in Washington, DC on April 22, 2003.
Grady C. Cothen, Jr.,
Deputy Associate Administrator for Safety Standards and Program Development.

[FR Doc. 03-10448 Filed 4-28-03; 8:45 am]

BILLING CODE 4910-06-P